DEPARTMENT OF THE INTERIOR

National Park Service

Notice of Intent to Repatriate Cultural Items: School for Advanced Research, Santa Fe, NM

AGENCY: National Park Service, Interior.

ACTION: Notice.

Notice is here given in accordance with the Native American Graves Protection and Repatriation Act (NAGPRA), 25 U.S.C. 3005, of the intent to repatriate cultural items in the possession of the School for Advanced Research, Santa Fe, NM, that meet the definition of “objects of cultural patrimony” under 25 U.S.C. 3001.

This notice is published as part of the National Park Service's administrative responsibilities under NAGPRA, 25 U.S.C. 3003 (d)(3). The determinations in this notice are the sole responsibility of the museum, institution, or Federal agency that has control of the cultural items. The National Park Service is not responsible for the determinations in this notice.

At an unknown date, Mary Cabot Wheelwright of Alcalde, NM, acquired four beads, one pendant, and one metal “tinkler” from the Finger Lakes region of New York. In 1941, Ms. Wheelwright donated the six cultural items to the School of Advanced Research (formerly the School of American Research), Santa Fe, NM.

The first bead is a carved, Catlinite, animal effigy bead with a drilled center hole, and approximately .87 cm wide and 2.2 cm long (IAF.M302). The second bead is a cylindrical, carved Catlinite bead with a hole drilled through its full length, and approximately 4.2 cm long and .4 cm in diameter (IAF.M304). The third bead is a carved shell bead that is triangular in shape with a hole drilled though its center, and approximately 1 cm wide and .3 cm deep (IAF.M305). The fourth bead is a tubular, animal bone bead that is approximately 5 cm long and .6 cm in diameter (IAF.M306).

The pendant is a carved, Catlinite pendant resembling a human face with a drilled hole at the top, and approximately 2 cm long and 1.6 cm wide (IAF.M303). The metal “tinkler,” or cone-shaped ornament, is approximately 5.6 cm long and .7 cm in diameter at the bottom (IAF.M307).

The six cultural items originated from the Finger Lakes region of New York, which is the aboriginal territory of the Haudenosaunee Confederacy, representing the six nations of Cayuga, Mohawk, Onondaga, Oneida, Seneca, and Tuscarora. Present day members of the Haudenosaunee Confederacy are represented by the Cayuga Nation of New York; Oneida Nation of New York; Oneida Tribe of Indians of Wisconsin; Onondaga Nation of New York; Seneca Nation of New York; Seneca-Cayuga Tribe of Oklahoma; Saint Regis Mohawk Tribe, New York (formerly the St. Regis Band of Mohawk Indians of New York); Tonawanda Band of Seneca Indians of New York; and Tuscarora Nation of New York. According to Haudenosaunee oral history, the Onondaga Nation is the keeper of the central hearth and fire where the Grand Council of the Confederacy meets. As the keeper of the central fire, the Onondaga Nation is responsible for the care of Haudenosaunee cultural patrimony that is not specifically affiliated with any one Haudenosaunee Nation, and for returning such objects to the particular Confederacy Nation as appropriate. Oral evidence presented during consultation by representatives of the Onondaga Nation of New York identifies the six cultural items as having ongoing historical, traditional, and cultural importance central to the Onondaga Nation of New York. Such items are considered “precious,” may be utilized in ceremony and other cultural events as items that are passed among members of the Confederacy for use within the Confederacy.

Officials of the Indian Arts Research Center, School for Advanced Research have determined that, pursuant to 25 U.S.C. 3001 (3)(D), the six cultural items described above have ongoing historical, traditional, or cultural importance central to the Native American group of culture itself, rather than property owned by an individual. Officials of the Indian Arts Research Center, School for Advanced Research also have determined that, pursuant to 25 U.S.C. 3001 (2), there is a relationship of shared group identity that can be reasonably traced between the objects of cultural patrimony and the Cayuga Nation of New York; Oneida Nation of New York; Oneida Tribe of Indians of Wisconsin; Onondaga Nation of New York; Seneca Nation of New York; Seneca-Cayuga Tribe of Oklahoma; Saint Regis Mohawk Tribe, New York; Tonawanda Band of Seneca Indians of New York; and Tuscarora Nation of New York.

Representatives of any other Indian tribe that believes itself to be culturally affiliated with the items of cultural patrimony should contact Carolyn McArthur, Collections Manager/NAGPRA Officer, Indian Arts Research Center, School for Advanced Research, P.O. Box 2188, Santa Fe, NM 87504, telephone (505) 954-7270, before October 15, 2007. Repatriation of the objects of cultural patrimony to the Onondaga Nation of New York, as keepers of the central fire for the Haudenosaunee Confederacy, may proceed after that date if no additional claimants come forward.

The Indian Arts Research Center, School for Advanced Research is responsible for notifying the Cayuga Nation of New York; Oneida Nation of New York; Oneida Tribe of Indians of Wisconsin; Onondaga Nation of New York; Seneca Nation of New York; Seneca-Cayuga Tribe of Oklahoma; Saint Regis Mohawk Tribe, New York; Tonawanda Band of Seneca Indians of New York; and Tuscarora Nation of New York that this notice has been published.

Dated: August 20, 2007
Sherry Hutt,
Manager, National NAGPRA Program.

[FR Doc. E7-18099 Filed 9-12-07; 8:45 am]

BILLING CODE 4312-50-S